DEPARTMENT OF HEALTH AND HUMAN SERVICES

National Institutes of Health

Submission for OMB Review; 30-Day Comment Request; NIH Office of Intramural Training & Education—Application, Registration, and Alumni Systems (Office of the Director)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Dr. Patricia Wagner, Program Analyst, Office of Intramural Training & Education (OITE), Office of Intramural Research (OIR), Office of the Director (OD), National Institutes of Health (NIH); 2 Center Drive: Building 2/Room 2E06; Bethesda, Maryland 20892 or call non-toll-free number 240-476-3619 or Email your request, including your address to: wagnerpa@od.nih.gov.

SUPPLEMENTARY INFORMATION: This proposed information collection was previously published in the Federal Register on November 5, 2018, page 55374 (83 FR 55374) and allowed 60 days for public comment. One public comment was received. The purpose of this notice is to allow an additional 30 days for public comment.

The Office of the Director (OD), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: NIH Office of Intramural Training & Education—Application, Registration, and Alumni Systems Office of the Director—0925-0299, exp., date 06/30/2019-REVISION—Office of the Director (OD), National Institutes of Health (NIH).

Need and Use of Information Collection: The Office of Intramural Training & Education (OITE) administers a variety of programs and initiatives to recruit pre-college through pre-doctoral educational level individuals into the National Institutes of Health Intramural Research Program (NIH-IRP) to facilitate their development into future biomedical scientists. The proposed information collection is necessary in order to determine the eligibility and quality of potential awardees for traineeships in these programs. The applications for admission consideration solicit information including: Personal information, ability to meet eligibility criteria, contact information, university-assigned student identification number, training program selection, scientific discipline interests, educational history, standardized examination scores, reference information, resume components, employment history, employment interests, dissertation research details, letters of recommendation, financial aid history, sensitive data, and travel information, as well as feedback questions about interviews and application submission experiences. Sensitive data collected on the applicants: Race, gender, ethnicity, relatives at NIH, and recruitment method, are made available only to OITE staff members or in aggregate form to select NIH offices and are not used by the admission committees for admission consideration. In addition, information to monitor trainee placement after departure from NIH is periodically collected.

OMB approval is requested for 3 years. There are no costs to respondents other than their time. The total estimated annualized burden hours are 13,297.

Estimated Annualized Burden Hours
Form | Type of respondent | Number of respondents | Number of responses per respondent | Average time/response (hours) | Total annual burden hours
1 | High School Scientific Training & Enrichment Program—Orientation | 25 | 1 | 10/60 | 4
2 | High School Scientific Training & Enrichment Program 2.0—Orientation | 25 | 1 | 10/60 | 4
3 | HiSTEP & HiSTEP2—Alumni Tracking | 125 | 2 | 30/60 | 125
4 | Summer Internship Program—Application | 8,000 | 1 | 45/60 | 6,000
5 | Summer Internship Program—Recommendation Letters | 16,000 | 1 | 10/60 | 2,667
6 | Amgen Scholars at NIH—Supplemental Application | 535 | 1 | 10/60 | 89
7 | Amgen Scholars at NIH—Feedback | 20 | 1 | 15/60 | 5
8 | Amgen Scholars at NIH—Alumni Tracking | 127 | 1 | 30/60 | 64
9 | Community College Summer Enrichment Program—Alumni Tracking | 158 | 1 | 10/60 | 26
10 | College-Summer Opportunities in Advanced Research—Alumni Tracking | 158 | 1 | 10/60 | 26
11 | Graduate-Summer Opportunities in Advanced Research—Alumni Tracking | 114 | 1 | 30/60 | 57
12 | Graduate Data Science Summer Program—Alumni Tracking | 30 | 1 | 30/60 | 15
13 | Native American Visit Week—Application | 15 | 1 | 20/60 | 5
14 | Native American Visit Week—Recommendation Letters | 15 | 1 | 10/60 | 3
15 | Native American Visit Week—Feedback | 15 | 1 | 15/60 | 4
16 | Undergraduate Scholarship Program—Application | 125 | 1 | 60/60 | 125
17 | Undergraduate Scholarship Program—Recommendation Letters for Applicants | 375 | 1 | 10/60 | 63
18 | Undergraduate Scholarship Program—Exceptional Financial Need—Completed by Applicant | 125 | 1 | 3/60 | 6
18 | Undergraduate Scholarship Program—Exceptional Financial Need—Completed by University Staff | 125 | 1 | 15/60 | 31
18 | Undergraduate Scholarship Program—Exceptional Financial Need Resubmission—Completed by Applicant | 38 | 1 | 3/60 | 2
18 | Undergraduate Scholarship Program—Exceptional Financial Need Resubmission—Completed by University Staff | 38 | 1 | 15/60 | 10
19 | Undergraduate Scholarship Program—Scholar Contract | 25 | 1 | 10/60 | 4
20 | Undergraduate Scholarship Program—Evaluation of Scholar Pay Back Period | 30 | 1 | 15/60 | 8
21 | Undergraduate Scholarship Program—Renewal Application | 15 | 1 | 45/60 | 11
22 | Undergraduate Scholarship Program—Recommendation Letters for Renewals | 15 | 1 | 10/60 | 3
23 | Undergraduate Scholarship Program—Deferment Form—Completed by Scholar | 10 | 1 | 3/60 | 1
23 | Undergraduate Scholarship Program—Deferment Form—Completed by University Staff | 10 | 1 | 12/60 | 2
24 | Postbaccalaureate Training Program—Application | 2,250 | 1 | 45/60 | 1,688
25 | Postbaccalaureate Training Program—Recommendation Letters | 6,750 | 1 | 10/60 | 1,125
26 | NIH Academy—Fellow & Certificate Programs Application | 300 | 1 | 15/60 | 75
27 | NIH Academy—Enrichment Program Application | 175 | 1 | 15/60 | 44
28 | Graduate Partnerships Program—Application | 325 | 1 | 60/60 | 325
29 | Graduate Partnerships Program—Recommendation Letters for Application | 975 | 1 | 10/60 | 163
30 | Graduate Partnerships Program—Interview Experience Survey | 30 | 1 | 10/60 | 5
31 | Graduate Partnerships Program—Registration | 175 | 1 | 15/60 | 44
32 | Graduate Partnerships Program—Awards Certificate | 75 | 1 | 30/60 | 38
33 | MyOITE—User Accounts | 6,000 | 1 | 3/60 | 300
34 | MyOITE—NIH Alumni | 500 | 1 | 15/60 | 125
35 | OITE Careers Blog—Success Stories | 6 | 1 | 45/60 | 5
Totals |  | 43,854 | 43,979 |  | 13,297

Dated: May 2, 2019.
Lawrence A. Tabak,
Principle Deputy Director, National Institutes of Health.

[FR Doc. 2019-09517 Filed 5-8-19; 8:45 am]

BILLING CODE 4140-01-P